NUCLEAR REGULATORY COMMISSION

[NRC-2024-0133]

Monthly Notice; Applications and Amendments to Facility Operating Licenses and Combined Licenses Involving No Significant Hazards Considerations

AGENCY: Nuclear Regulatory Commission.

ACTION: Monthly notice.

SUMMARY: Pursuant to section 189a.(2) of the Atomic Energy Act of 1954, as amended (the Act), the U.S. Nuclear Regulatory Commission (NRC) is publishing this regular monthly notice. The Act requires the Commission to publish notice of any amendments issued, or proposed to be issued, and grants the Commission the authority to issue and make immediately effective any amendment to an operating license or combined license, as applicable, upon a determination by the Commission that such amendment involves no significant hazards consideration (NSHC), notwithstanding the pendency before the Commission of a request for a hearing from any person.

DATES: Comments must be filed by September 5, 2024. A request for a hearing or petitions for leave to intervene must be filed by October 7, 2024. This monthly notice includes all amendments issued, or proposed to be issued, from June 21, 2024, to July 18, 2024. The last monthly notice was published on July 9, 2024.

ADDRESSES: You may submit comments by any of the following methods; however, the NRC encourages electronic comment submission through the Federal rulemaking website.

• Federal rulemaking website: Go to https://www.regulations.gov and search for Docket ID NRC-2024-0133. Address questions about Docket IDs in Regulations.gov to Stacy Schumann; telephone: 301-415-0624; email: Stacy.Schumann@nrc.gov. For technical questions, contact the individual listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Paula Blechman, Office of Nuclear Reactor Regulation, U.S. Nuclear Regulatory Commission, Washington, DC 20555-0001, telephone: 301-415-2242; email: Paula.Blechman@nrc.gov.

SUPPLEMENTARY INFORMATION:

I. Obtaining Information and Submitting Comments

A. Obtaining Information

Please refer to Docket ID NRC-2024-0133, facility name, unit number(s), docket number(s), application date, and subject when contacting the NRC about the availability of information for this action. You may obtain publicly available information related to this action by any of the following methods:

• Federal Rulemaking Website: Go to https://www.regulations.gov and search for Docket ID NRC-2024-0133.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The ADAMS accession number for each document referenced (if it is available in ADAMS) is provided the first time that it is mentioned in this document.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

B. Submitting Comments

The NRC encourages electronic comment submission through the Federal rulemaking website (https://www.regulations.gov). Please include Docket ID NRC-2024-0133, facility name, unit number(s), docket number(s), application date, and subject, in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Notice of Consideration of Issuance of Amendments to Facility Operating Licenses and Combined Licenses and Proposed No Significant Hazards Consideration Determination

For the facility-specific amendment requests shown in this notice, the Commission finds that the licensees' analyses provided, consistent with section 50.91 of title 10 of the Code of Federal Regulations (10 CFR) “Notice for public comment; State consultation,” are sufficient to support the proposed determinations that these amendment requests involve NSHC. Under the Commission's regulations in 10 CFR 50.92, operation of the facilities in accordance with the proposed amendments would not (1) involve a significant increase in the probability or consequences of an accident previously evaluated; or (2) create the possibility of a new or different kind of accident from any accident previously evaluated; or (3) involve a significant reduction in a margin of safety.

The Commission is seeking public comments on these proposed determinations. Any comments received within 30 days after the date of publication of this notice will be considered in making any final determinations.

Normally, the Commission will not issue the amendments until the expiration of 60 days after the date of publication of this notice. The Commission may issue any of these license amendments before expiration of the 60-day period provided that its final determination is that the amendment involves NSHC. In addition, the Commission may issue any of these amendments prior to the expiration of the 30-day comment period if circumstances change during the 30-day comment period such that failure to act in a timely way would result, for example in derating or shutdown of the facility. If the Commission takes action on any of these amendments prior to the expiration of either the comment period or the notice period, it will publish in the Federal Register a notice of issuance. If the Commission makes a final NSHC determination for any of these amendments, any hearing will take place after issuance. The Commission expects that the need to take action on any amendment before 60 days have elapsed will occur very infrequently.

A. Opportunity To Request a Hearing and Petition for Leave To Intervene

Within 60 days after the date of publication of this notice, any person (petitioner) whose interest may be affected by any of these actions may file a request for a hearing and petition for leave to intervene (petition) with respect to that action. Petitions shall be filed in accordance with the Commission's “Agency Rules of Practice and Procedure” in 10 CFR part 2. Interested persons should consult a current copy of 10 CFR 2.309. If a petition is filed, the Commission or a presiding officer will rule on the petition and, if appropriate, a notice of a hearing will be issued.

Petitions must be filed no later than 60 days from the date of publication of this notice in accordance with the filing instructions in the “Electronic Submissions (E-Filing)” section of this document. Petitions and motions for leave to file new or amended contentions that are filed after the deadline will not be entertained absent a determination by the presiding officer that the filing demonstrates good cause by satisfying the three factors in 10 CFR 2.309(c)(1)(i) through (iii).

If a hearing is requested, and the Commission has not made a final determination on the issue of no significant hazards consideration, the Commission will make a final determination on the issue of no significant hazards consideration, which will serve to establish when the hearing is held. If the final determination is that the amendment request involves no significant hazards consideration, the Commission may issue the amendment and make it immediately effective, notwithstanding the request for a hearing. Any hearing would take place after issuance of the amendment. If the final determination is that the amendment request involves a significant hazards consideration, then any hearing held would take place before the issuance of the amendment unless the Commission finds an imminent danger to the health or safety of the public, in which case it will issue an appropriate order or rule under 10 CFR part 2.

A State, local governmental body, Federally recognized Indian Tribe, or designated agency thereof, may submit a petition to the Commission to participate as a party under 10 CFR 2.309(h) no later than 60 days from the date of publication of this notice. Alternatively, a State, local governmental body, Federally recognized Indian Tribe, or agency thereof may participate as a non-party under 10 CFR 2.315(c).

For information about filing a petition and about participation by a person not a party under 10 CFR 2.315, see ADAMS Accession No. ML20340A053 (https://adamswebsearch2.nrc.gov/webSearch2/main.jsp?AccessionNumber=ML20340A053) and on the NRC's public website at https://www.nrc.gov/about-nrc/regulatory/adjudicatory/hearing.html#participate.

B. Electronic Submissions (E-Filing)

All documents filed in NRC adjudicatory proceedings, including documents filed by an interested State, local governmental body, Federally recognized Indian Tribe, or designated agency thereof that requests to participate under 10 CFR 2.315(c), must be filed in accordance with 10 CFR 2.302. The E-Filing process requires participants to submit and serve all adjudicatory documents over the internet, or in some cases, to mail copies on electronic storage media, unless an exemption permitting an alternative filing method, as further discussed, is granted. Detailed guidance on electronic submissions is located in the “Guidance for Electronic Submissions to the NRC” (ADAMS Accession No. ML13031A056) and on the NRC's public website at https://www.nrc.gov/site-help/e-submittals.html.

To comply with the procedural requirements of E-Filing, at least 10 days prior to the filing deadline, the participant should contact the Office of the Secretary by email at Hearing.Docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the proceeding if the Secretary has not already established an electronic docket.

Information about applying for a digital ID certificate is available on the NRC's public website at https://www.nrc.gov/site-help/e-submittals/getting-started.html. After a digital ID certificate is obtained and a docket created, the participant must submit adjudicatory documents in Portable Document Format. Guidance on submissions is available on the NRC's public website at https://www.nrc.gov/site-help/electronic-sub-ref-mat.html. A filing is considered complete at the time the document is submitted through the NRC's E-Filing system. To be timely, an electronic filing must be submitted to the E-Filing system no later than 11:59 p.m. ET on the due date. Upon receipt of a transmission, the E-Filing system time-stamps the document and sends the submitter an email confirming receipt of the document. The E-Filing system also distributes an email that provides access to the document to the NRC's Office of the General Counsel and any others who have advised the Office of the Secretary that they wish to participate in the proceeding, so that the filer need not serve the document on those participants separately. Therefore, applicants and other participants (or their counsel or representative) must apply for and receive a digital ID certificate before adjudicatory documents are filed to obtain access to the documents via the E-Filing system.

A person filing electronically using the NRC's adjudicatory E-Filing system may seek assistance by contacting the NRC's Electronic Filing Help Desk through the “Contact Us” link located on the NRC's public website at https://www.nrc.gov/site-help/e-submittals.html, by email to MSHD.Resource@nrc.gov, or by a toll-free call at 1-866-672-7640. The NRC Electronic Filing Help Desk is available between 9 a.m. and 6 p.m., ET, Monday through Friday, except Federal holidays.

Participants who believe that they have good cause for not submitting documents electronically must file an exemption request, in accordance with 10 CFR 2.302(g), with their initial paper filing stating why there is good cause for not filing electronically and requesting authorization to continue to submit documents in paper format. Such filings must be submitted in accordance with 10 CFR 2.302(b)-(d). Participants filing adjudicatory documents in this manner are responsible for serving their documents on all other participants. Participants granted an exemption under 10 CFR 2.302(g)(2) must still meet the electronic formatting requirement in 10 CFR 2.302(g)(1), unless the participant also seeks and is granted an exemption from 10 CFR 2.302(g)(1).

Documents submitted in adjudicatory proceedings will appear in the NRC's electronic hearing docket, which is publicly available at https://adams.nrc.gov/ehd, unless excluded pursuant to an order of the presiding officer. If you do not have an NRC-issued digital ID certificate as previously described, click “cancel” when the link requests certificates and you will be automatically directed to the NRC's electronic hearing docket where you will be able to access any publicly available documents in a particular hearing docket. Participants are requested not to include personal privacy information such as social security numbers, home addresses, or personal phone numbers in their filings unless an NRC regulation or other law requires submission of such information. With respect to copyrighted works, except for limited excerpts that serve the purpose of the adjudicatory filings and would constitute a Fair Use application, participants should not include copyrighted materials in their submission.

The following table provides the plant name, docket number, date of application, ADAMS accession number, and location in the application of the licensees' proposed NSHC determinations. For further details with respect to these license amendment applications, see the applications for amendment, which are available for public inspection in ADAMS. For additional direction on accessing information related to this document, see the “Obtaining Information and Submitting Comments” section of this document.

License Amendment Requests
Constellation Energy Generation, LLC; Braidwood Station, Units 1 and 2, Will County, IL; Byron Station, Unit Nos. 1 and 2, Ogle County, IL
Docket Nos | 50-454, 50-455, 50-456, 50-457.
Application date | April 25, 2024.
ADAMS Accession No | ML24116A112.
Location in Application of NSHC | Pages 26-27 of Attachment 1.
Brief Description of Amendments | The proposed amendments would revise the technical specifications (TSs) to remove core operating limits report (COLR) analytical method TS 5.6.5.b.5. The COLR analytical method TS 5.6.5.b.5 implements the anticipated transients without scram moderator temperature limit from the Braidwood Station, Units 1 and 2 and Byron Station, Units 1 and 2 TSs.
Proposed Determination | NSHC.
Name of Attorney for Licensee, Mailing Address | Jason Zorn, Associate General Counsel, Constellation Energy Generation, LLC 4300 Winfield Road, Warrenville, IL 60555.
NRC Project Manager, Telephone Number | Joel Wiebe, 301-415-6606.
Constellation Energy Generation, LLC; Dresden Nuclear Power Station, Units 2 and 3; Grundy County, IL
Docket Nos | 50-237, 50-249.
Application date | May 28, 2024.
ADAMS Accession No | ML24149A261.
Location in Application of NSHC | Pages 25-27 of the Enclosure.
Brief Description of Amendments | The proposed amendments would modify the Dresden Nuclear Power Station, Units 2 and 3, licensing basis by the addition of a license condition to implement the provisions of 10 CFR 50.69, “Risk-informed categorization and treatment of structures, systems and components for nuclear power reactors.”
Proposed Determination | NSHC.
Name of Attorney for Licensee, Mailing Address | Jason Zorn, Associate General Counsel, Constellation Energy Generation, LLC 4300 Winfield Road, Warrenville, IL 60555.
NRC Project Manager, Telephone Number | Surinder Arora, 301-415-1421.
Duke Energy Carolinas, LLC; Catawba Nuclear Station, Units 1 and 2; York County, SC; Duke Energy Progress, LLC; H. B. Robinson Steam Electric Plant, Unit No. 2; Darlington County, SC; Duke Energy Progress, LLC; Shearon Harris Nuclear Power Plant, Unit 1; Wake and Chatham Counties, NC
Docket Nos | 50-261, 50-400, 50-413, 50-414.
Application date | May 23, 2024.
ADAMS Accession No | ML24149A117.
Location in Application of NSHC | Pages 5-6 of Enclosure 1.
Brief Description of Amendments | The proposed amendments would revise technical specifications (TSs) for Catawba Nuclear Station, Units 1 and 2 (CNS); Shearon Harris Nuclear Power Plant, Unit 1 (HNP); and H. B. Robinson Steam Electric Plant, Unit No. 2 (RNP) to adopt Technical Specification Task Force (TSTF) Traveler TSTF-234-A, Revision 1, “Add Action for More Than One [D]RPI [[Digital] Rod Position Indication] Inoperable.” The proposed amendments would modify CNS TS 3.1.7, “Rod Position Indication”; RNP TS 3.1.7, “Rod Position Indication”; and HNP TS 3.1.3.2, “Position Indication Systems—Operating,” to add a Condition (Action for HNP) for more than one inoperable rod position indication per group. For CNS and RNP only, the proposed amendments would also modify the Action Note and provide clarification to the existing Required Actions A.1 and B.1.
Proposed Determination | NSHC.
Name of Attorney for Licensee, Mailing Address | Tracey Mitchell LeRoy, Deputy General Counsel, Duke Energy Corporation, 525 S. Tryon Street, Charlotte, NC 28210.
NRC Project Manager, Telephone Number | Natreon Jordan, 301-415-7410.
Nebraska Public Power District; Cooper Nuclear Station; Nemaha County, NE
Docket No | 50-298.
Application date | May 9, 2024.
ADAMS Accession No | ML24131A026.
Location in Application of NSHC | Pages 4-5 of Attachment 1.
Brief Description of Amendment | The proposed amendment would relocate cycle specific minimum critical power ratio values from the Cooper Nuclear Station (Cooper) Technical Specification Table 3.3.2.1-1 to the Cooper Core Operating Limits Report.
Proposed Determination | NSHC.
Name of Attorney for Licensee, Mailing Address | John C. McClure, Vice President, Governmental Affairs and General Counsel Nebraska Public Power District, P.O. Box 499, Columbus, NE 68601.
NRC Project Manager, Telephone Number | Thomas Byrd, 301 415-3719.
NextEra Energy Point Beach, LLC; Point Beach Nuclear Plant, Units 1 and 2; Manitowoc County, WI
Docket Nos | 50-266, 50-301.
Application date | June 26, 2024.
ADAMS Accession No | ML24178A265.
Location in Application of NSHC | Pages 7-8 of the Enclosure.
Brief Description of Amendments | The proposed amendments would modify Technical Specifications (TS) 3.6.5, “Containment Air Temperature,” by relocating to licensee control, limits on the containment average air temperature measurement, which account for instrument uncertainty and conforming changes to the TS Bases.
Proposed Determination | NSHC.
Name of Attorney for Licensee, Mailing Address | Steven Hamrick, Senior Attorney, 801 Pennsylvania Ave. NW, Suite 220 Washington, DC 20004.
NRC Project Manager, Telephone Number | Scott Wall, 301-415-2855.
Northern States Power Company—Minnesota; Prairie Island Nuclear Generating Plant, Unit Nos. 1 and 2; Goodhue County, MN
Docket Nos | 50-282, 50-306.
Application date | June 3, 2024.
ADAMS Accession No | ML24155A220 (Package).
Location in Application of NSHC | Pages 10-12 of Enclosure 1.
Brief Description of Amendments | The proposed amendments would revise the technical specification (TS) definition of reactor trip system (RTS) response time to allow allocation of response times in lieu of testing using methodologies proposed in the license amendment request, and revise applicability of Surveillance Requirement 3.3.1.16 to RTS trip functions in TS Table 3.3.1-1.
Proposed Determination | NSHC.
Name of Attorney for Licensee, Mailing Address | Peter M. Glass, Assistant General Counsel, Xcel Energy, 414 Nicollet Mall—401-8, Minneapolis, MN 55401.
NRC Project Manager, Telephone Number | Brent Ballard, 301-415-0680.
PSEG Nuclear LLC; Hope Creek Generating Station; Salem County, NJ
Docket No | 50-354.
Application date | May 20, 2024.
ADAMS Accession No | ML24141A136.
Location in Application of NSHC | Pages 26-28 of the Enclosure.
Brief Description of Amendment | The proposed amendment would revise the technical specification surveillance requirement performance intervals from 18 months to 24 months by implementing a 24-month fuel cycle.
Proposed Determination | NSHC.
Name of Attorney for Licensee, Mailing Address | Francis Romano, PSEG—Services Corporation, 80 Park Plaza, T-10, Newark, NJ 07102.
NRC Project Manager, Telephone Number | James Kim, 301-415-4125.
PSEG Nuclear LLC; Hope Creek Generating Station; Salem County, NJ
Docket No | 50-354.
Application date | May 20, 2024.
ADAMS Accession No | ML24142A428 (Package).
Location in Application of NSHC | Enclosure 2, Volume 2.
Brief Description of Amendment | The proposed amendment would revise Hope Creek Generating Station Technical Specifications to Improved Standard Technical Specifications, consistent with NUREG-1433, Revision 5, “Standard Technical Specifications—General Electric BWR/4 Plants.”
Proposed Determination | NSHC.
Name of Attorney for Licensee, Mailing Address | Francis Romano, PSEG—Services Corporation, 80 Park Plaza, T-10, Newark, NJ 07102.
NRC Project Manager, Telephone Number | James Kim, 301-415-4125.
Southern Nuclear Operating Company, Inc.; Joseph M. Farley Nuclear Plant, Units 1 and 2; Houston County, AL; Vogtle Electric Generating Plant, Units 1 and 2; Burke County, GA
Docket Nos | 50-348, 50-364, 50-424, 50-425.
Application date | June 28, 2024.
ADAMS Accession No | ML24180A236.
Location in Application of NSHC | Pages E-3 and E-4 of the Enclosure.
Brief Description of Amendments | The proposed amendments would adopt Technical Specifications Task Force (TSTF) Traveler TSTF-589, “Eliminate Automatic Diesel Generator Start During Shutdown,” which is an approved change to the Standard Technical Specifications, into the Joseph M. Farley Nuclear Plant, Units 1 and 2 and the Vogtle Electric Generating Plant, Units 1 and 2, technical specifications (TSs). TSTF-589 eliminates the TS requirements for automatic diesel generator start and loading during shutdown.
Proposed Determination | NSHC.
Name of Attorney for Licensee, Mailing Address | Millicent Ronnlund, Vice President and General Counsel, Southern Nuclear Operating Co., Inc., P.O. Box 1295, Birmingham, AL 35201-1295.
NRC Project Manager, Telephone Number | John Lamb, 301-415-3100.
Tennessee Valley Authority; Watts Bar Nuclear Plant, Units 1 and 2; Rhea County, TN
Docket Nos | 50-390, 50-391.
Application date | April 4, 2024.
ADAMS Accession No | ML24095A159.
Location in Application of NSHC | Pages E12—E13 of the Enclosure.
Brief Description of Amendments | The proposed amendments would revise Watts Bar Nuclear Plant, Units 1 and 2, Technical Specification (TS) 3.7.11 to modify the TS Actions for two inoperable control room emergency air temperature control system (CREATCS) trains. The proposed changes would allow up to 96 hours to restore one CREATCS train to operable status provided mitigating actions ensure the control room temperature will not exceed 90 degrees Fahrenheit. The proposed changes also include conforming changes to TS 3.7.11, Conditions E and F. Additionally, the proposed changes would delete a previously approved temporary footnote.
Proposed Determination | NSHC.
Name of Attorney for Licensee, Mailing Address | David Fountain, Executive VP and General Counsel, Tennessee Valley Authority, 6A West Tower, 400 West Summit Hill Drive, Knoxville, TN 37902.
NRC Project Manager, Telephone Number | Kimberly Green, 301-415-1627.

III. Notice of Issuance of Amendments to Facility Operating Licenses and Combined Licenses

During the period since publication of the last monthly notice, the Commission has issued the following amendments. The Commission has determined for each of these amendments that the application complies with the standards and requirements of the Atomic Energy Act of 1954, as amended (the Act), and the Commission's rules and regulations. The Commission has made appropriate findings as required by the Act and the Commission's rules and regulations in 10 CFR chapter I, which are set forth in the license amendment.

A notice of consideration of issuance of amendment to facility operating license or combined license, as applicable, proposed NSHC determination, and opportunity for a hearing in connection with these actions, were published in the Federal Register as indicated in the safety evaluation for each amendment.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated in the safety evaluation for the amendment.

For further details with respect to each action, see the amendment and associated documents such as the Commission's letter and safety evaluation, which may be obtained using the ADAMS accession numbers indicated in the following table. The safety evaluation will provide the ADAMS accession numbers for the application for amendment and the Federal Register citation for any environmental assessment. All of these items can be accessed as described in the “Obtaining Information and Submitting Comments” section of this document.

License Amendment Issuances
Arizona Public Service Company, et al; Palo Verde Nuclear Generating Station, Units 1, 2, and 3; Maricopa County, AZ
Docket Nos | 50-528, 50-529, 50-530.
Amendment Date | July 17, 2024.
ADAMS Accession No | ML24159A470.
Amendment Nos | 223 (Unit 1), 223 (Unit 2), and 223 (Unit 3).
Brief Description of Amendments | The amendments revised Conditions A and B of Technical Specification (TS) 3.5.1, “Safety Injection Tanks (SITs)—Operating,” and TS 3.5.2, “Safety Injection Tanks (SITs)—Shutdown,” and their bases using the risk-informed process for evaluations. Specifically, the changes modified the Completion Time for Condition B of TS Limiting Conditions for Operation (LCOs) 3.5.1 and 3.5.2 from 24 hours to 10 days. Additionally, this change deleted the second case of Condition A of LCOs 3.5.1 and 3.5.2 (i.e., “One SIT inoperable due to inability to verify level or pressure”).
Public Comments Received as to Proposed NSHC (Yes/No) | No.
Constellation Energy Generation, LLC; Clinton Power Station, Unit No. 1; DeWitt County, IL
Docket No | 50-461.
Amendment Date | July 11, 2024.
ADAMS Accession No | ML24157A324.
Amendment No | 254.
Brief Description of Amendment | The amendment revised the reactor water cleanup system isolation functions that are listed in Technical Specification 3.3.6.1, “Primary Containment and Drywell Isolation Instrumentation,” Table 3.3.6.1-1, and Primary Containment and Drywell Isolation Instrumentation. Specifically, the change increased the allowable value for Function 4.b, Differential Flow-Timer, and renamed Function 4.b as Differential Flow Timer—High. In addition, new functions were added for a differential flow timer—high-high trip, and an associated differential flow high-high timer.
Public Comments Received as to Proposed NSHC (Yes/No) | No.
Constellation Energy Generation, LLC; Dresden Nuclear Power Station, Units 2 and 3; Grundy County, IL
Docket Nos | 50-237, 50-249.
Amendment Date | June 26, 2024.
ADAMS Accession No | ML24138A057.
Amendment Nos | 285 (Unit 2) and 278 (Unit 3).
Brief Description of Amendments | The amendments adopted Technical Specifications Task Force (TSTF) Traveler 564 (TSTF-564), Revision 2, “Safety Limit MCPR [Minimum Critical Power Ratio].” The adoption of TSTF-564 revised the TS safety limit on MCPR.
Public Comments Received as to Proposed NSHC (Yes/No) | No.
Constellation Energy Generation, LLC; Quad Cities Nuclear Power Station, Units 1 and 2; Rock Island County, IL
Docket Nos | 50-254, 50-265.
Amendment Date | July 3, 2024.
ADAMS Accession No | ML24162A098.
Amendment Nos | 301 (Unit 1) and 297 (Unit 2).
Brief Description of Amendments | The amendments adopted 10 CFR 50.69, “Risk-informed categorization and treatment of structures, systems, and components for nuclear power reactors.”
Public Comments Received as to Proposed NSHC (Yes/No) | No.
Constellation FitzPatrick, LLC and Constellation Energy Generation, LLC; James A. FitzPatrick Nuclear Power Plant; Oswego County, NY
Docket No | 50-333.
Amendment Date | June 26, 2024.
ADAMS Accession No | ML24136A116.
Amendment No | 355.
Brief Description of Amendment | The amendment revised Technical Specifications 3.4, “Reactor Coolant System (RCS),” Section 3.4.3, “Safety/Relief Valves (S/RVs).” Specifically, Constellation Energy Generation, LLC revised a new safety function lift setpoint lower tolerance for the S/RVs as delineated in Surveillance Requirement 3.4.3.1. The change revised the lower setpoint tolerance from -3 percent to -5 percent.
Public Comments Received as to Proposed NSHC (Yes/No) | No.
Duke Energy Progress, LLC; Brunswick Steam Electric Plant, Units 1 and 2; Brunswick County, NC
Docket Nos | 50-325, 50-324.
Amendment Date | June 5, 2024.
ADAMS Accession No | ML24108A070.
Amendment Nos | 313 (Unit 1) and 341 (Unit 2).
Brief Description of Amendments | The amendments revised the license condition associated with the adoption of 10 CFR 50.69, “Risk-informed categorization and treatment of structures, systems and components for nuclear power reactors,” that was added to the Brunswick Steam Electric Plant, Units 1 and 2 Renewed Facility Operating licenses upon the issuance of Amendment Nos. 292 (Unit 1) and 320 (Unit 2), and revised by Amendment Nos. 305 (Unit 1) and 333 (Unit 2). Specifically, the change revised the respective license condition to reflect an alternative approach for evaluating the impact of the seismic hazard in the 10 CFR 50.69 categorization process.
Public Comments Received as to Proposed NSHC (Yes/No) | No.
Entergy Operations, Inc.; Arkansas Nuclear One, Unit 2; Pope County, AR
Docket No | 50-368.
Amendment Date | June 25, 2024.
ADAMS Accession No | ML24101A179.
Amendment No | 333.
Brief Description of Amendment | The amendment revised the technical specifications to permit the use of risk informed completion times for actions to be taken when limiting conditions for operation are not met. The changes are based on Technical Specifications Task Force (TSTF) Traveler TSTF 505, Revision 2, “Provide Risk Informed Extended Completion Times—RITSTF [Risk-Informed TSTF] Initiative 4b,” dated July 2, 2018. The NRC staff issued a final model safety evaluation approving TSTF 505, Revision 2 on November 21, 2018.
Public Comments Received as to Proposed NSHC (Yes/No) | No.
Nebraska Public Power District; Cooper Nuclear Station; Nemaha County, NE
Docket No | 50-298.
Amendment Date | July 3, 2024.
ADAMS Accession No | ML24134A178.
Amendment No | 276.
Brief Description of Amendment | The amendment modified Technical Specification (TS) 3.8.3, “Diesel Fuel Oil, Lube Oil, and Starting Air,” to allow the use of temporary fuel oil storage tanks to supplement the required fuel inventory used by the emergency diesel generators. This TS change is only applicable for the 2024 Refuel Outage 33 while in Modes 4 or 5 to allow cleaning, inspection, and repair of the permanent diesel fuel oil tanks.
Public Comments Received as to Proposed NSHC (Yes/No) | No.
Nebraska Public Power District; Cooper Nuclear Station; Nemaha County, NE
Docket No | 50-298.
Amendment Date | July 17, 2024.
ADAMS Accession No | ML24183A172.
Amendment No | 277.
Brief Description of Amendment | This amendment modified Cooper Nuclear Station Technical Specification (TS) 5.5.9, “Diesel Fuel Oil Testing Program,” by relocating a reference to specific American Society for Testing and Materials standards for fuel oil testing to licensee-controlled documents. These changes are consistent with Technical Specifications Task Force (TSTF) Traveler TSTF-374, Revision 0, “Revision to TS 5.5.13 and Associated TS Bases for Diesel Fuel Oil,” dated April 27, 2001 (ML011340449). The NRC approved the traveler on January 13, 2005 (ML050130309).
Public Comments Received as to Proposed NSHC (Yes/No) | No.
PSEG Nuclear LLC; Hope Creek Generating Station; Salem County, NJ; Salem Nuclear Generating Station, Unit Nos. 1 and 2; Salem County, NJ
Docket Nos | 50-272, 50-311, 50-354.
Amendment Date | July 15, 2024.
ADAMS Accession No | ML24145A177.
Amendment Nos | 236 (Hope Creek), 349 (Salem, Unit 1), and 331 (Salem, Unit 2).
Brief Description of Amendments | The amendments changed the licensing basis as described in the Hope Creek Generating Station (Hope Creek) and Salem Generating Station (Salem), Units 1 and 2 Updated Final Safety Analysis Reports to account for modifications to the exclusion area boundary for Hope Creek and Salem.
Public Comments Received as to Proposed NSHC (Yes/No) | No.
Tennessee Valley Authority; Watts Bar Nuclear Plant, Units 1 and 2; Rhea County, TN
Docket Nos | 50-390, 50-391.
Amendment Date | July 15, 2024.
ADAMS Accession No | ML24170A800.
Amendment Nos | 168 (Unit 1) and 74 (Unit 2).
Brief Description of Amendments | The amendments permanently revised Watts Bar Nuclear Plant, Units 1 and 2, Technical Specification Table 1.1-1, “MODES,” footnotes (b) and (c), to allow operation with at least 53 of 54 reactor pressure vessel head closure bolts fully tensioned.
Public Comments Received as to Proposed NSHC (Yes/No) | No.
Tennessee Valley Authority; Watts Bar Nuclear Plant, Units 1 and 2; Rhea County, TN
Docket Nos | 50-390, 50-391.
Amendment Date | July 2, 2024.
ADAMS Accession No | ML24131A001.
Amendment Nos | 167 (Unit 1) and 73 (Unit 2).
Brief Description of Amendments | The amendments revised Watts Bar Nuclear Plant, Units 1 and 2, technical specifications requirements for unavailable barriers by adding Limiting Condition for Operation 3.0.9. The revised technical specifications are based on Technical Specifications Task Force (TSTF) traveler TSTF-427, Revision 2, “Allowance for Non Technical Specification Barrier Degradation on Supported System OPERABILITY.”
Public Comments Received as to Proposed NSHC (Yes/No) | No.

Dated: July 24, 2024.
For the Nuclear Regulatory Commission.
Jamie Pelton,
Deputy Director, Division of Operating Reactor Licensing, Office of Nuclear Reactor Regulation.

[FR Doc. 2024-16657 Filed 8-5-24; 8:45 am]

BILLING CODE 7590-01-P